NUCLEAR REGULATORY COMMISSION

[Docket No. 72-3]

Notice of Issuance of Renewed Materials License SNM-2502; Progress Energy Carolinas, Incorporated; H. B. Robinson Steam Electric Plant, Unit 2 Independent Spent Fuel Storage Installation

AGENCY: Nuclear Regulatory Commission.

ACTION: Notice of issuance of license renewal.

FOR FURTHER INFORMATION CONTACT: Christopher M. Regan, Senior Project Manager, Spent Fuel Project Office, Office of Nuclear Material Safety and Safeguards, U.S. Nuclear Regulatory Commission, Washington, DC 20555. Telephone: (301) 415-1179; fax number: (301) 415-8555; e-mail: cmr1@nrc.gov.

SUPPLEMENTARY INFORMATION:

I. Introduction

The U.S. Nuclear Regulatory Commission (NRC or the Commission) has issued renewed Materials License SNM-2502 to Progress Energy Carolinas, Incorporated (PEC) for the receipt, possession, transfer, and storage of spent fuel at the H. B. Robinson Steam Electric Plant, Unit 2 (HBRSEP), Independent Spent Fuel Storage Installation (ISFSI), located in Darlington County, South Carolina. The renewed license authorizes operation of the HBRSEP ISFSI in accordance with the provisions of the renewed license and its Technical Specifications.

II. Background

By application dated February 27, 2004, PEC requested to renew the operating license for the HBRSEP ISFSI. PEC requested the renewal of the original ISFSI license for a renewal period of 20 years, and an exemption for an additional 20 years.

III. Finding

The application for the renewed license complies with the standards and requirements of the Atomic Energy Act of 1954 (the Act) , as amended, and the Commission's regulations. The Commission has made appropriate findings as required by the Act and the Commission's rules and regulations in 10 CFR Chapter 1, which are set forth in the license. In addition, in accordance with 10 CFR 72.7, the Commission has determined that the exemption is authorized by law and will not endanger life or property or the common defense and security and is otherwise in the public interest. Public notice of the proposed action and opportunity for hearing regarding the proposed issuance of the renewed license was published in the Federal Register on April 15, 2004 (69 FR 20073).

FOR FURTHER INFORMATION CONTACT: Supporting documentation is available for inspection at NRC's Public Electronic Reading Room at: http://www.nrc.gov/reading-rm/ADAMS.html. A copy of the license application, dated February 27, 2004, and the staff's Environmental Assessment, dated March 2005, can be found at this site using the Agency Document And Management System (ADAMS) accession numbers ML040690774 and ML050700137.

Dated in Rockville, Maryland, this 30th day of March, 2005.
For the Nuclear Regulatory Commission.
Christopher M. Regan,
Senior Project Manager, Licensing Section, Spent Fuel Project Office, Office of Nuclear Material Safety and Safeguards.

[FR Doc. E5-1595 Filed 4-6-05; 8:45 am]

BILLING CODE 7590-01-P